ENVIRONMENTAL PROTECTION AGENCY

[FRL-9926-25-Region 5]

Notice of Issuance of a Federal Operating Permit for G&K Services Inc.—Green Bay

AGENCY: Environmental Protection Agency (EPA).

ACTION: Notice.

SUMMARY: This notice announces that on March 23, 2015, pursuant to title V of the Clean Air Act, the Environmental Protection Agency (EPA) issued a Federal operating permit to G&K Services, Inc., for G&K Services, Inc.—Green Bay. The permit authorizes the operation of industrial washers, industrial dryers, a natural gas-fired boiler, a steam tunnel, and other processes used to clean and recondition soiled industrial towels.

ADDRESSES: The final signed permit is available for public inspection online at http://yosemite.epa.gov/r5/r5ard.nsf/Tribal+Permits!OpenView, or during normal business hours at the following address: U.S. Environmental Protection Agency, Region 5, Air and Radiation Division, 77 West Jackson Boulevard, Chicago, Illinois 60604. We recommend that you call Michael Langman, Environmental Scientist, at (312) 886-6867 before visiting the Region 5 office.

FOR FURTHER INFORMATION CONTACT: Michael Langman, Environmental Scientist, Air Permits Section, Air Programs Branch (AR-18J), Environmental Protection Agency, Region 5, 77 West Jackson Boulevard, Chicago, Illinois 60604, (312) 886-6867, langman.michael@epa.gov.

SUPPLEMENTARY INFORMATION: Throughout this document whenever “we,” “us,” or “our” is used, we mean EPA.

A. What is the background information?

G&K Services, Inc. owns and operates G&K Services, Inc.—Green Bay, which is located within the exterior boundaries of the Oneida Tribe of Indians of Wisconsin's tribal reservation in Green Bay, Wisconsin. Emission units at the source consist of nine industrial washers, six natural gas-fired industrial dryers, a natural gas-fired boiler, a natural gas-fired steam tunnel, and other processes. These emission units and other processes are used to process, clean, and recondition soiled industrial towels.

On February 13, 2013, G&K Services, Inc. contacted EPA Region 5 to discuss the permitting status of G&K Services, Inc.—Green Bay, since a question had arisen regarding the identity of the proper permitting authority. Prior to the issuance of this permit, G&K Services, Inc.—Green Bay operated according to the requirements of an operating permit issued by the Wisconsin Department of Natural Resources (WDNR). However, on December 4, 2001, EPA granted full approval of Wisconsin's title V operating permit program (see 66 FR 62951). In its action, EPA specifically exempted Indian country from the approval of Wisconsin's title V operating permit program (id. at 62953). Since the source is located within the exterior boundaries of the Oneida Tribe of Indians of Wisconsin's tribal reservation and EPA did not grant WDNR the authority to issue title V operating permits to sources located in Indian country, EPA determined that we are the permitting authority for this source.

On June 14, 2013, G&K Services, Inc. submitted an application for an initial operating permit pursuant to the requirements of the Federal operating permit program codified at 40 CFR part 71. On July 17, 2013, G&K Services, Inc. submitted additional information to supplement its permit application. On July 25, 2013, EPA determined that the application was complete pursuant to 40 CFR 71.5(a)(2).

On December 5, 2014, EPA issued a draft permit for a 30-day public comment period pursuant to 40 CFR 71.11(d). The public comment period ended on January 5, 2015. During the public comment period, EPA received comments from G&K Services, Inc. requesting clarification of permit terms. EPA responded to all comments as required by 40 CFR 71.11(j).

EPA issued the final permit for G&K Services, Inc.—Green Bay, permit number V-ON-5500900021-2014-01, on March 23, 2015. Pursuant to 40 CFR 71.11(i)(2), the final permit becomes effective on April 22, 2015, unless review is requested pursuant to 40 CFR 71.11(i)(1).

B. Appeal of the Permit

Pursuant to 40 CFR 71.11(l), any person who filed comments on the draft permit may petition the Environmental Appeals Board for administrative review of any condition of the permit decision. Any person who failed to file comments may petition for administrative review of the permit only on changes from the draft to the final permit or to the extent that new grounds for a petition have arisen that were not reasonably foreseeable during the public comment period on the draft permit. The 30-day period during which a person may seek review under 40 CFR 71.11(l) began on March 25, 2015, the date on which EPA notified G&K Services, Inc. of issuance of the permit.

C. What is the purpose of this notice?

EPA is notifying the public of the issuance of a title V operating permit, permit number V-ON-5500900021-2014-01, issued on March 23, 2015, to G&K Services, Inc. for its source in Green Bay, Wisconsin. The permit becomes effective on April 22, 2015, unless review is requested pursuant to 40 CFR 71.11(i)(1).

Authority: 42 U.S.C. 7401 et seq.

Dated: April 1, 2015.
Susan Hedman,
Regional Administrator, Region 5.

[FR Doc. 2015-08910 Filed 4-16-15; 8:45 am]

BILLING CODE 6560-50-P